DEPARTMENT OF TRANSPORTATION

Federal Motor Carrier Safety Administration

[Docket No. FMCSA-2004-19683]

Notice-Request for Comments on Renewing Approval of an Information Collection: OMB Control No. 2126-0016 (Licensing Applications for Motor Carrier Operating Authority)

AGENCY: Federal Motor Carrier Safety Administration (FMCSA), DOT.

ACTION: Notice; request for comments.

SUMMARY: This notice announces FMCSA's plans to request the Office of Management and Budget (OMB) to renew its approval of the information collection described below. This information collection is for the application forms used by for-hire motor carriers of regulated commodities, freight forwarders, property brokers, and certain Mexican motor carriers to register their operations with the FMCSA. This notice is required by the Paperwork Reduction Act.

DATES: Please submit your comments by March 14, 2005.

ADDRESSES: Mail or hand deliver comments to the U.S. Department of Transportation, Dockets Management Facility, Room PL-401, 400 Seventh Street, SW., Washington, DC 20590, or submit electronically at http://dmses.dot.gov/submit. Be sure to include the docket number appearing in the heading of this document on your comment. All comments received will be available for examination and copying at the above address from 9 a.m. to 5 p.m., e.t., Monday through Friday, except Federal holidays. If you would like to be notified when your comment is received, you must include a self-addressed, stamped postcard or you may print the acknowledgment page that appears after submitting comments electronically.

FOR FURTHER INFORMATION CONTACT: Ms. Joy Dunlap, (202) 493-0219, Information Systems Division (MC-RIS), Federal Motor Carrier Safety Administration, U.S. Department of Transportation, 400 Seventh Street, SW., Washington, DC 20590. Office hours are from 7:30 a.m. to 4 p.m., e.s.t., Monday through Friday, except Federal holidays.

SUPPLEMENTARY INFORMATION: Title: Licensing Applications for Motor Carrier Operating Authority, formerly titled “Revision of Licensing Application Forms, Application Procedures, and Corresponding Regulations.”

OMB Number: 2126-0016.

Background: The FMCSA is authorized to register for-hire motor carriers of regulated commodities under the provisions of 49 U.S.C. 13902; freight forwarders under the provisions of 49 U.S.C. 13903; property brokers under the provisions of 49 U.S.C. 13904; and certain Mexican motor carriers under the provisions of 49 U.S.C. 13902 and the North American Free Trade Agreement (NAFTA) motor carrier access provision. The forms used to apply for registration authority with the FMCSA are: Form OP-1 for motor property carriers and brokers; Form OP-1(P) for motor passenger carriers; Form OP-1(FF) for freight forwarders; and Form OP-1(MX) for certain Mexican motor carriers. These forms request information on the applicant's identity, location, familiarity with safety requirements, and type of proposed operations. There are some differences on the forms due to specific statutory standards for registration of the different types of transportation entities.

Respondents: Motor carriers, freight forwarders, brokers and certain Mexican motor carriers.

Estimated Total Annual Burden: The current estimated average time to complete each registration application form is 2 hours. There are approximately 19,000 annual applications on the OP-1, OP-1(P) and OP-1(FF) forms; therefore, the estimated annual reporting burden is 38,000 hours (19,000 annual applications × 2 hours = 38,000 hours). FMCSA estimates that it receives approximately 2,060 OP-1(MX) applications annually. The estimated annual reporting burden for the current OP-1(MX) is approximately 2,060 hours (1,030 respondents per year × 2 hours each to complete form). Therefore, the total estimated annual reporting burden is 40,060 hours (2,060 hours + 38,000 hours = 40,060 hours).

Frequency: Initial applications are submitted one time; updates for changes to certain information are required as the changes occur.

Public Comments Invited: Your comments are particularly invited on whether the collection of information is necessary for the FMCSA to meet its goal of reducing truck crashes, including whether the information is useful to this goal; the accuracy of the estimate of the burden of the information collection; ways to enhance the quality, utility and clarity of the information collected; and ways to minimize the burden of the collection of information on respondents, including the use of automated collection techniques or other forms of information technology.

Electronic Access and Filing: You may submit or retrieve comments online through the Docket Management System (DMS) at http://dmses.dot.gov/submit. Acceptable formats include: MS Word (versions 95 to 97), MS Word for Mac (versions 6 to 8), Rich Text File (RTF), American Standard Code Information Interchange (ASCII)(TXT), Portable Document Format (PDF), and WordPerfect (versions 7 to 8). The DMS is available 24 hours each day, 365 days each year. Electronic submission and retrieval help and guidelines are available under the help section of the web site. You may also download an electronic copy of this document from the DOT Docket Management System on the Internet at http://dms.dot.gov/search.htm. Please include the docket number appearing in the heading of this document.

Authority: The Paperwork Reduction Act of 1995, 44 U.S.C. chapter 35, as amended; 49 U.S.C. 13902, 13903 and 13904; and 49 CFR 1.73.

Issued: January 3, 2005.
Annette M. Sandberg,
Administrator.

[FR Doc. 05-560 Filed 1-11-05; 8:45 am]

BILLING CODE 4910-EX-P